DEPARTMENT OF HEALTH AND HUMAN SERVICES

Substance Abuse and Mental Health Services Administration

Agency Information Collection Activities: Submission for OMB Review; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer at (240) 276-0361.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Assessment of Communities Talk To Prevent Underage Drinking—(OMB No. 0930-0288)—Reinstatement

The Substance Abuse and Mental Health Services Administration/Center for Substance Abuse Prevention (SAMHSA/CSAP) is requesting a reinstatement from the Office of Management and Budget (OMB) of information collection regarding the Assessment of Communities Talk to Prevent Underage Drinking, which is implemented by the Underage Drinking Prevention Education Initiatives (UADPEI) within CSAP. The most recent data collection was approved under OMB No. 0930-0288, Assessment of the Town Hall Meetings on Underage Drinking Prevention, which expired on May 31, 2020. Revisions were made to the Organizer Survey; it can be completed twice, namely after a round of Communities Talk events/activities (activities) from February 2022 to April 2022, and as a follow-up one year later from February 2023 to April 2023. The Organizer Survey—6 month Follow-up and Participant Form (English and Spanish versions) were dropped.

Changes

Under the most recent approval, the Organizer Survey consisted of 20 items. Under this revision, the Organizer Survey includes 14 items about the Communities Talk initiative and how communities might be carrying out evidence-based strategies to prevent underage drinking (UAD). The following table provides a summary of the changes that were made to the instrument.

Current question/item | Changes made
q1—Date of the Communities Talk event | Question deleted.
q2—Enter the location of the Communities Talk event | Question deleted.
q3—How long did the Communities Talk event last (e.g., 45 minutes, 1.5 hours)? | Question deleted.
q4—How would you characterize the location where the Communities Talk event was held? | New q12.
q5—What influenced your organization's decision to host a Communities Talk event? (Mark all that apply.) | Question deleted.
q6—Did any other community-based organization (e.g., business, school) collaborate with your organization in hosting this event? | Question deleted.
q7—Were youth involved in organizing and/or hosting the Communities Talk event? | Question deleted.
q8—How was the Communities Talk event promoted? (Mark all that apply.) | Question deleted.
q9—What was the total number of attendees at the Communities Talk event? (Estimates are okay.) | New q3.
q10—In what language was the Communities Talk event conducted? (Mark all that apply.) | Question deleted.
q11—Which of the following best represents key speakers at the Communities Talk event? (Mark all that apply.) | Question deleted.
q12—Was underage drinking the only topic addressed by the Communities Talk event? | Question deleted.
q13—Which of the following alcohol-related topics were discussed at the Communities Talk event? (Mark all that apply.) | Question deleted.
q14—In your opinion, how important is underage drinking, and its consequences, to the residents of your community? | New q1.
q15—In the future, how likely is it that you or your organization will plan or collaborate with others on the following activities to prevent underage drinking in your community? | Added the following introductory sentence: `A community's needs and its resources may change over time.' (new q9).
q16—Thinking about you and your organization, please rate your agreement with the following statements. | Deleted the following statements: (a) `The Communities Talk event has increased my ability to share information about the importance of preventing underage drinking'; (b) `As a result of this Communities Talk event, I feel more motivated to continue to address underage drinking in my community'; (c) `As a result of this Communities Talk event, I feel more confident hosting another Communities Talk or other underage drinking prevention event in the future'; (d) `As a result of this Communities Talk event, I am more likely to host another underage drinking prevention event in my community' (new q6).
q17—Did you use any material(s) from www.stopalcoholabuse.gov/townhallmeetings for the Communities Talk event? <If yes> What material(s) did you use? | In first sentence, replaced `Did you use' with `Have you used' and added `the Communities Talk website'; In first sentence, deleted `for the Communities Talk event'; In second sentence, replaced `did you use' with `have you used' and added `the Communities Talk website' (new q5).
| Added a second question (new q5A) to replace `<If yes> What material(s) did you use?' with response options. New question reads: `Q5A If <Q5=Yes> What material(s) from the Communities Talk website (www.stopalcoholabuse.gov/communitiestalk) have you used?.
| ○ Quick Start Planning Guide.
| ○ Registration Tutorial Video.
| ○ Tips & Tools for Hosting a Virtual Activity (e.g., virtual activity starters and ideas).
| ○ Using Social Media guides.
| ○ Social Media Images/Graphics.
| ○ Customizable Resources for Communities Talk Promotion and Implementation (e.g., PowerPoint template, flyer, logo, web badge).
| ○ Other (please specify) __________.
SAMHSA provides periodic webinars and online training at www.stopalcoholabuse.gov/townhallmeetings for organizations hosting Communities Talk events. SAMHSA also provides technical assistance to organizations through www.stopalcoholabuse.gov/townhallmeetings/contact-us.aspx, info@stopalcoholabuse.net, eval@stopalcoholabuse.net, and by telephone at (866) 419-2514. | Explanation and question deleted.
q18—Please rate your agreement with the following statements regarding any training or technical assistance (TA) that you or your organization received
q19—Please share any other important features or reactions to the Communities Talk event | Question deleted.
q20—Did your organization develop a report, or does it plan to, that includes underage drinking data at the community level (e.g., incidences of use; activities or actions employed to prevent and combat underage drinking)? <If yes> Would you be willing to share the report with SAMHSA? <If yes> Please send the report to the following address: eval@stopalcoholabuse.net [or] ICF, Attn.: Communities Talk on UAD—Rená A. Agee, 530 Gaither Rd., Suite 500, Rockville, MD 20857 | In first sentence, replaced `Did your organization develop a report, or does it plan to,' with `Do you have a report or something else (e.g., tables)'; In third sentence, replaced `eval@stopalcoholabuse.net' with `info@stopalcoholabuse.net'; In third sentence, replaced `Communities Talk on UAD—Rená A. Agee' with `Communities Talk—Genevieve Martinez-Garcia' (new q11).
<ALL ENDING> SAMHSA would like to contact you in about 6 months to follow up on any actions that were taken as a result of the Communities Talk event that was hosted in your community. Are you willing to be contacted in about 6 months to complete an online follow-up survey? | In first sentence, replaced `6 months' with `1 year'; In first sentence, replaced `follow up on any actions that were taken as a result of the Communities Talk event that was hosted' with `get an update on prevention activities taking place'; In second sentence, replaced `6 months' with `1 year'.
<EXIT screen 1 (Yes to recontact)> Thank you again for sharing this important information about the Communities Talk: Town Hall Meetings to Prevent Underage Drinking event that was held in your community! We will contact your organization in about 6 months to follow up on any actions that were taken as a result of the Communities Talk event that was held in your community REDIRECT TO www.stopalcoholabuse.gov/townhallmeetings. | In first sentence, replaced `the Communities Talk: Town Hall Meetings to Prevent Underage Drinking event that was held in your community' with `your experience with Communities Talk and underage drinking prevention activities'; At end, replaced `REDIRECT TO www.stopalcoholabuse.gov/townhallmeetings' with `Visit www.stopalcoholabuse.gov/communitiestalk/ for the most current updates.'.
<EXIT screen 2 (No to recontact)> Thank you again for sharing this important information about the Communities Talk: Town Hall Meetings to Prevent Underage Drinking event that was held in your community! REDIRECT TO www.stopalcoholabuse.gov/townhallmeetings/. | In first sentence, replaced `the Communities Talk: Town Hall Meetings to Prevent Underage Drinking event that was held' with `your experience with Communities Talk and underage drinking prevention activities'; At end, replaced `REDIRECT TO www.stopalcoholabuse.gov/townhallmeetings' with `Visit www.stopalcoholabuse.gov/communitiestalk/ for the most current updates.'

Seven new questions were added pertaining to number of Communities Talk activities that have ever taken place in the community (q2), preparation (tied or not tied to Communities Talk) completed to help organizers carry out evidence-based strategies to prevent UAD in their community (q4), confidence to carry out tasks related to evidence-based prevention (q7), current work to carry out evidence-based strategies (q8), perceived efficacy of Communities Talk to enhance UAD prevention in the community (q10), type of organization represented by respondent (q13), and audiences targeted by respondent's organization (q14). Some of these items (i.e., q4, q7, and q8) are modified versions of instruments validated by Chinman et al. (2008).

The revisions were necessary to better align the data gathered to the short-term and long-term outcomes of the Communities Talk activities for organizers, specifically:

Short-Term

• Increase staff's perceived threat of UAD to residents of the communities;

• Increase staff's knowledge related to using evidence-based approaches to carry out future UAD drinking prevention activities;

• Increase staff's perceived efficacy of Communities Talk to enhance UAD prevention in the community;

• Increase staff's skills related to using evidence-based approaches to carry out future UAD prevention activities, specifically share information about UAD with others host meetings or discussion groups; create committees, task forces, advisory boards, or other action groups; build coalitions; develop strategic plans; and advocate for policies

• Increase staff's self-efficacy related to using evidence-based approaches to carry out future UAD prevention activities; and

• Increase staff's intention related to using evidence-based approaches to carry out future UAD prevention activities.

Long-Term

• Increase staff's use of evidence-based approaches to carry out future UAD prevention activities.

While completing the initial Organizer Survey, staff of Community-Based Organizations and Institutions of Higher Education can opt in to be contacted 1 year later. If they do so, they will receive an invitation to complete the same online questionnaire 1 year later. This will enable SAMHSA to determine how organizers might have progressed toward the aforementioned short- and long-term outcomes. Note that the Organizer Survey (see Attachment 1) has replaced the Organizer Survey—6 month Follow-Up. This change enables SAMHSA to compare responses between the initial and follow-up time periods (e.g., and thus determine whether the same skills have increased or decreased over time).

SAMHSA/CSAP will be responsible for collecting, compiling, analyzing, and reporting on information requested through these surveys.

The Participant Survey has been discontinued in alignment with SAMHSA's focus on organizers as the target audience of Communities Talk activities.

SAMHSA supports nationwide Communities Talk activities every other year. Collecting data on each round of Communities Talk activities and using this information to inform policy and measure impact connects with SAMHSA's Strategic Plan FY2019-FY2023, specifically “Objective 3.2: Expand community engagement around substance use prevention, treatment, and recovery” (SAMHSA, 2018). Communities Talk activities are intended to work at the grassroots level to raise awareness of the public health dangers of UAD and to engage communities in evidence-based prevention. Notably, Communities Talk activities provide a forum for communities to discuss ways they can best prevent UAD by reducing the availability of alcohol and by creating community norms that discourage demand.

SAMHSA will use the information collected to document the implementation efforts of this nationwide initiative, determine if the federally sponsored Communities Talk activities lead to additional activities within the community that are aimed at preventing and reducing UAD, identify what these activities may possibly include, and help plan for future rounds of Communities Talk events. SAMHSA intends to post online a summary document of each round of Communities Talk activities and present findings at national conferences attended by CBOs and IHEs that have hosted these activities and might host future activities. Similarly, SAMHSA plans to share findings with the Interagency Coordinating Committee on the Prevention of Underage Drinking. Agencies within this committee encourage their grantees to participate as the activity hosts. Additionally, the information collected will support performance measurement for SAMHSA programs under the Government Performance Results Act (GPRA).

Data Collection Component

SAMHSA/CSAP will use a web-based method, such as Voxco, to collect data through the Organizer Survey. The web-based application will comply with the requirements of Section 508 of the Rehabilitation Act to permit accessibility to people with disabilities.

From February 2022 to April 2022, the Organizer Survey—Initial will be completed by an estimated 500 Communities Talk activity organizers and will require only one response per respondent. It will take an average of 10 minutes (0.167 hours) to review the instructions and complete the survey. Similarly, from February 2023 to April 2023, the Organizer Survey—Follow-up will be completed by an estimated 500 Communities Talk activity organizers and will require only one response per respondent. It will take an average of 10 minutes (0.167 hours) to review the instructions and complete the survey. This burden estimate is based on comments from three 2019 Communities Talk activity organizers who reviewed the survey and provided comments on how long it would take them to complete it.

Estimated Annualized Burden Table
Form name | Number of respondents | Responses per respondent | Total responses | Hours per response | Total hour burden
Organizer Survey—Initial | 500 | 1 | 500 | 0.167 | 83.50
Organizer Survey—Follow-Up | 500 | 1 | 500 | 0.167 | 83.50
Total | 500 |  | 1,000 |  | 167.00

Send comments to Carlos Graham, SAMHSA Reports Clearance Officer, 5600 Fisher Lane, Room 15E57-A, Rockville, MD 20852 OR email him a copy at carlos.graham@samhsa.hhs.gov. Written comments should be received by March 21, 2022.

Carlos Graham,
Reports Clearance Officer.

[FR Doc. 2022-00860 Filed 1-18-22; 8:45 am]

BILLING CODE 4162-20-P